FEDERAL ELECTION COMMISSION

[Notice 2000-16]

Filing Dates for the Georgia Senate Special Election

AGENCY: Federal Election Commission.

ACTION: Notice of filing dates for special election.

SUMMARY: Georgia has scheduled a special election on November 7, 2000, to fill the U.S. Senate seat of the late Senator Paul Coverdell. Under Georgia law, a majority winner in a non-partisan special election is declared elected. Should no candidate achieve a majority vote, a Special Runoff Election will be held on November 28, 2000, between the top two vote-getters.

Committees participating in the Georgia special elections are required to file pre- and post-election reports. Filing dates for these reports are affected by whether one or two elections are held.

FOR FURTHER INFORMATION CONTACT: Ms. Bobby Zarin, Information Division, 999 E Street, NW., Washington, DC 20463; Telephone: (202) 694-1100; Toll Free (800) 424-9530.

SUPPLEMENTARY INFORMATION: All principal campaign committees of candidates who participate in the Georgia Special General and Special Runoff Elections and all other political committees which support candidates in these elections shall file a 12-day Pre-General Report on October 26, 2000, with coverage dates from the close of the last report filed, or the day of the committee's first activity, whichever is later, through October 18, 2000; a Pre-Runoff Report on November 16, 2000, with coverage dates from October 19 through November 8, 2000; and a Post-Runoff Report on December 28, 2000, with coverage dates from November 9 through December 18, 2000.

All principal campaign committees of candidates in the Special General Election only and all other political committees which support candidates in the Special General Election shall file a 12-day Pre-General Report on October 26, 2000, with coverage dates from the close of the last report filed, or the date of the committee's first activity, whichever is later, through October 18, 2000, and a Post General Report on December 7, 2000, with coverage dates from October 19 through November 27, 2000.

All political committees which support candidates in the Special Runoff only shall file a 12-day Pre-Runoff Report on November 16, 2000, with coverage dates from the last report filed through November 8, 2000, and a Post-Runoff Report on December 28, 2000, with coverage dates from November 9 through December 18, 2000.

Committees filing monthly which support candidates in the Georgia Special General or Special Runoff Elections should continue to file according to the election year monthly reporting schedule.

Calendar of Reporting Dates for Georgia Special Elections ¹
Report | Close of books ² | Reg./Cert. mailing date ³ | Filing date
If Only the Special General Is Held (11/07/00), Committees Must File:
Pre-General | 10/18/00 | 10/23/00 | 10/26/00
Post-General | 11/27/00 | 12/07/00 | 12/07/00
Year-End | 12/31/00 | 01/31/01 | 01/31/01
If Two Elections Are Held, a Committee Involved in Only the Special General (11/07/00) Must File:
Pre-General | 10/18/00 | 10/23/00 | 10/26/00
Year-End | 12/31/00 | 01/31/01 | 01/31/01
Committees Involved in the Special General (11/07/00) and the Special Runoff (11/28/00) Must File:
Pre-General | 10/18/00 | 10/23/00 | 10/26/00
Pre-Runoff | 11/08/00 | 11/13/00 | 11/16/00
Post-Runoff | 12/18/00 | 12/28/00 | 12/28/00
Year-End | 12/31/00 | 01/31/01 | 01/31/01
Committees Involved in Only the Special Runoff (11/28/00) Must File:
Pre-Runoff | 11/08/00 | 11/13/00 | 11/16/00
Post-Runoff | 12/18/00 | 12/28/00 | 12/28/00
Year-End | 12/31/00 | 01/31/01 | 01/31/01
¹ PACs and party committees must also adhere to their reporting requirements for the regularly scheduled November 7 general election. The addition of these reports may affect the coverage dates of some of the special election reports. See the January issue of the Record or the FEC's website at www.FEC.GOV for more information.
² The period begins with the close of books of the last report filed by the committee. If the committee has filed no previous reports, the period begins with the date of the committee's first activity.
³ Reports sent registered or certified mail must be postmarked by the mailing date; otherwise, they must be received by the filing date.

Dated: August 4, 2000.
Karl J. Sandstrom,
Commissioner, Federal Election Commission.

[FR Doc. 00-20115 Filed 8-8-00; 8:45 am]

BILLING CODE 6715-01-P